DEPARTMENT OF HEALTH AND HUMAN SERVICES

National Institutes of Health

Office of the Director, National Institutes of Health; Amended Notice of Meeting

Notice is hereby given of a change in the meeting of the Advisory Committee to the Director, National Institutes of Health, December 10, 12:00 p.m. to December 11, 05:00 p.m. National Institutes of Health, Building 1, Wilson Hall, 1 Center Drive, Bethesda, MD, 20892 (Virtual Meeting) which was published in the Federal Register on 11/30/2020, 85 FR 76590.

The meeting notice is amended to change the meeting start time on December 10, 2020 from 12:00 p.m. to 12:30 p.m. The meeting is open to the public.

Dated: December 4, 2020.
Natasha M. Copeland,
Deputy Director, Office of Federal Advisory Committee Policy.

[FR Doc. 2020-27055 Filed 12-8-20; 8:45 am]

BILLING CODE 4140-01-P